DEPARTMENT OF HOUSING AND URBAN DEVELOPMENT

[Docket No. FR-5997-N-14]

Notice of Proposed Information Collection: Implementation Phase Review of the Lesbian, Gay, Bisexual, Transgender and Queer (LGBTQ) Youth Homelessness Prevention Initiative, Withdrawal

AGENCY: Office of Community Planning and Development, HUD.

ACTION: Notice.

SUMMARY: HUD announces the withdrawal of this proposed information collection published on September 20, 2016, for 60-days of public comment and on February 23, 2017, for 30-days of public comment to provide HUD with the opportunity to further review the need for the collection.

DATES: Effective Date: March 10, 2017.

FOR FURTHER INFORMATION CONTACT: Norm Suchar, Director, Office of Special Needs Assistance Programs, Office of Community Planning and Development, Department of Housing and Urban Development, 451 7th Street SW., Washington, DC 20410-7000; telephone number 202-708-4300 (this is not a toll-free number). Persons who are deaf or hard of hearing or have speech impairments can access this number via TTY by calling the toll-free Federal Relay Service at 800-877-8339.

SUPPLEMENTARY INFORMATION: Pursuant to the Paperwork Reduction Act of 1995 (44 U.S.C. 3501-3521), HUD published two Federal Register notices that solicited public comment on an information collection pertaining to “Implementation Phase Review of the Lesbian, Gay, Bisexual, Transgender and Queer (LGBTQ) Youth Homelessness Prevention Initiative.” The first notice was published on September 20, 2016, at 81 FR 64497, and solicited public comments for a period of 60-days. The second notice was published on February 23, 2017, at 82 FR 114779, and solicited comments for 30-days.

This information collection is being withdrawn immediately while HUD further considers the need for the information collection. HUD will provide for public comment, as required by the Paperwork Reduction Act of 1995, should HUD decide to seek approval from the Office of Management and Budget for this information collection.

Dated: March 7, 2017.
Ann Marie Oliva,
Deputy Assistant Secretary for Special Needs Programs.

[FR Doc. 2017-04788 Filed 3-9-17; 8:45 am]

BILLING CODE 4210-67-P